DEPARTMENT OF COMMERCE

Foreign-Trade Zones Board

[B-82-2021]

Foreign-Trade Zone (FTZ) 75—Phoenix, Arizona Authorization of Production Activity; LCY Electronic Materials Inc. (Specialty Chemicals for Microchip Production), Casa Grande, Arizona

On December 10, 2021, LCY Electronic Materials Inc., submitted a notification of proposed production activity to the FTZ Board for its facility within FTZ 75, in Casa Grande, Arizona.

The notification was processed in accordance with the regulations of the FTZ Board (15 CFR part 400), including notice in the Federal Register inviting public comment (86 FR 72576, December 22, 2021). On April 11, 2022, the applicant was notified of the FTZ Board's decision that no further review of the activity is warranted at this time. The production activity described in the notification was authorized, subject to the FTZ Act and the FTZ Board's regulations, including Section 400.14.

Dated: April 11, 2022.
Andrew McGilvray,
Executive Secretary.

[FR Doc. 2022-08000 Filed 4-13-22; 8:45 am]

BILLING CODE 3510-DS-P